DEPARTMENT OF HEALTH AND HUMAN SERVICES

National Institutes of Health

Submission to OMB, Comment Request; the Impact of a Decade of the Fogarty International Research Collaboration Award (FIRCA)

SUMMARY: Under the provisions of section 3507(a)(1)(D) of the Paperwork Reduction Act of 1995, the Fogarty International Center (FIC), the National Institutes of Health (NIH), has submitted to the Office of Management and Budget (OMB) a request for review and approval of the information collection listed below. This proposed information collection was previously published in the Federal Register on March 26, 2003, in Volume 68, No. 58, pages 14670-14671, and allowed 60 days for public comment. No public comments were received. The purpose of this announcement is to allow an additional 30 days for public comment. The National Institutes of Health may not conduct or sponsor, and the respondent is not required to, an information collection that has been extended, revised, or implemented on or after October 1, 1995, unless it displays a currently valid OMB control number.

Proposed Collection: Title: The Impact of a Decade of the Fogarty International Research Collaboration Award (FIRCA). Type of Information Collection Request: New. Need and Use of Information Collection: This study will access the outputs, outcomes and impacts of the Fogarty International Research Collaboration Award (FIRCA). The primary objectives of the study are to determine if FIRCA awards (1) Extend and enhance the research interests of the US principal investigator (USPI) and the international research collaborator (IRC); (2) increase the research capacity of the international scientists and institution; and (3) foster discovery and reduce global health disparities through the support of international cooperation across the continuum of basic, clinical and applied biomedical, behavioral and health sciences. The findings will provide valuable information concerning: (1) specific research advances attributable to FIRCA support; (2) specific capacity and career enhancing advances that are attributable to FIRCA funding; and (3) policy implications for the FIRCA program based on USPI and IRC responses. Frequency of Response: Once. Affected Public: Individuals. Types of Respondents: US researchers and their foreign research collaborators. Estimated Number of Respondents: 1072. Estimated Number of Responses per Respondent: 1. Average Burden Hours Per Response: 1. Estimated Total Annual Burden Hours Requested: 1072. The annualized cost to respondents is estimated at $26,130. Tables 1 and 2 respectively present data concerning the burden hours and cost burdens for this data collection. There are no capital costs, operating, and/or maintenance costs to report.

Table 1.—Estimate of Hour Burden
Type of respondents | Number of respondents | Frequency of response | Average time per response (hr) | Total annual hour burden
USPIs | 536 | 1 | 1.0 | 536
IRCs | 536 | 1 | 1.0 | 536
Total | 1072 |  |  | 1072

Table 2.—Annualized Cost to Respondents
Type of respondents | Number of respondents | Response frequency | Hourly wage rate | Respondent cost
USPIs | 536 | 1 | $38.75 | $20,770
IRCs | 536 | 1 | 10.00 | 5,360
Total | 1072 |  |  | 26,130

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Information and Regulatory Affairs, New Executive Office Building, Room 10235, Washington, DC 20503. Attention: Desk Officer for NIH. To request more information on the proposed project or to obtain a copy of the data collection plans and instruments, contact Dr. Linda Kupfer, Fogarty International Center, National Institutes of Health, 16 Center Drive, Building 16, Bethesda, MD 20892-6705, call the non-toll-free number 301-496-3288, or E-mail your request, including your address, to: Kupferl@mail.nih.gov.

Comments Due Date: Comments regarding this information collection are best assured of having their full effect if received within 30 days of the date of this publication.

Dated: April 15, 2004.
Richard Miller,
Executive Officer, FIC, National Institutes of Health.

[FR Doc. 04-9031 Filed 4-20-04; 8:45 am]

BILLING CODE 4140-01-M